DEPARTMENT OF DEFENSE

National Imagery and Mapping Agency

Privacy Act of 1974; System of Records

AGENCY: National Imagery and Mapping Agency, DoD.

ACTION: Notice to Amend Systems of Records.

SUMMARY: The National Imagery and Mapping Agency (NIMA) is amending its Address Directory as it appears in the NIMA inventory of record systems subject to the Privacy Act of 1974, (5 U.S.C. 552a), as amended.

DATES: This proposed action will be effective without further notice on June 1, 2001 unless comments are received which result in a contrary determination.

ADDRESSES: Comments should be sent to the Office of General Counsel, National Imagery and Mapping Agency, Mail Stop D-10, 4600 Sangamore Road, Bethesda, MD 20816-5003.

FOR FURTHER INFORMATION CONTACT: Mr. Tom Willess, Associate General Counsel, at (301) 227-2953.

SUPPLEMENTARY INFORMATION: The National Imagery and Mapping Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 26, 2001.
L.M. Bynum,
Alternate OSD Federal Register Liaison Officer, Department of Defense.

National Imagery and Mapping Agency Official Mailing Addresses

National Imagery and Mapping Agency, 4600 Sangamore Road, Bethesda, MD 20816-5003.

National Imagery and Mapping Agency, 3200 South Second Street, St. Louis, MO 63118-3399.

National Imagery and Mapping Agency, 1210 Sunrise Valley Drive, Reston, VA 22091-3414.

NIMA College, 5825 21st Street, Suite 106, Ft. Belvoir, VA 22060-5921.

[FR Doc. 01-10897 Filed 5-01-01; 8:45 am]

BILLING CODE 5001-10-M